DEPARTMENT OF HEALTH AND HUMAN SERVICES

Health Resources and Services Administration

Charter Renewal for the Council on Graduate Medical Education

AGENCY: Health Resources and Services Administration (HRSA), Department of Health and Human Services (HHS).

ACTION: Notice.

SUMMARY: HHS is hereby giving notice that the Council on Graduate Medical Education (COGME) has been rechartered. The date the renewed charter took effect is September 30, 2018.

FOR FURTHER INFORMATION CONTACT: Kennita R. Carter, MD, Designated Federal Official, COGME at 301-945-3505 or email at kcarter@hrsa.gov. A copy of the current committee membership, charter, and reports can be obtained by accessing the website http://www.hrsa.gov/advisorycommittees/bhpradvisory/COGME/index.html.

SUPPLEMENTARY INFORMATION: COGME provides advice and recommendations to the Secretary of the Department of Health and Human Services (Secretary), the Senate Committee on Health, Education, Labor and Pensions, and the U.S. House of Representatives Committee on Energy and Commerce on matters concerning the supply and distribution of physicians in the United States, physician workforce trends, training issues, financing policies and other matters of significance concerning graduate medical education, as specified by section 762 of the Public Health Service (PHS) Act, as amended. Additionally, COGME encourages entities providing graduate medical education to conduct activities to voluntarily achieve the recommendations of the Council; develops, publishes, and implements performance measures and longitudinal evaluations; and recommends appropriation levels for certain PHS Act Title VII programs. The charter renewal for COGME was approved on September 30, 2018, which will also stand as the filing date. Renewal of the COGME charter gives authorization for the Council to operate until September 30, 2020.

A copy of the COGME charter is available on the COGME website at: https://www.hrsa.gov/advisory-committees/graduate-medical-edu/index.html. A copy of the charter can also be obtained by accessing the FACA database that is maintained by the Committee Management Secretariat under the General Services Administration. The website for the FACA database is http://www.facadatabase.gov/.

Amy P. McNulty,
Acting Director, Division of the Executive Secretariat.

[FR Doc. 2018-21864 Filed 10-5-18; 8:45 am]

BILLING CODE 4165-15-P